DEPARTMENT OF AGRICULTURE

Animal and Plant Health Inspection Service

[Docket No. APHIS-2006-0172]

Interstate Movement of Garbage from Hawaii; Availability of a Pest Risk Assessment and an Environmental Assessment and Finding of No Significant Impact

AGENCY: Animal and Plant Health Inspection Service, USDA.

ACTION: Notice.

SUMMARY: We are advising the public that a pest risk assessment and an environmental assessment and finding of no significant impact have been prepared by the Animal and Plant Health Inspection Service relative to a request to allow the interstate movement of garbage from Hawaii to a landfill in the State of Washington. The pest risk assessment evaluates the risks associated with the interstate movement of garbage from Hawaii to Washington. The environmental assessment examines the potential environmental effects associated with moving garbage interstate from Hawaii to Washington, subject to certain pest risk mitigation measures and documents our review and analysis of the environmental impacts associated with, and alternatives to, the action. Based on its finding of no significant impact, the Animal and Plant Health Inspection Service has determined that an environmental impact statement need not be prepared.

FOR FURTHER INFORMATION CONTACT: Ms. Shannon Hamm, Assistant Deputy Administrator, Policy and Program Development, APHIS, 4700 River Road Unit 20, Riverdale, MD 20737-1231; (301) 734-4957.

SUPPLEMENTARY INFORMATION:

Background

The importation and interstate movement of garbage is regulated by the Animal and Plant Health Inspection Service (APHIS) under 7 CFR 330.400 and 9 CFR 94.5 (referred to below as the regulations) in order to protect against the introduction into and dissemination within the United States of plant and animal pests and diseases.

On November 8, 2006, we published in the Federal Register (71 FR 65454, Docket No. APHIS-2006-0172) a notice in which we announced the availability, for public review and comment of, a site-specific environmental assessment and a pest risk assessment relative to a request to allow the interstate movement of garbage from Hawaii to the State of Washington.

The environmental assessment, titled “Movement of Plastic-baled Municipal Solid Waste from Honolulu, Hawaii to Roosevelt Regional Landfill, Washington” (October 2006), examines the potential environmental effects associated with moving garbage interstate from Hawaii to the Roosevelt Regional Landfill in Klickitat County, WA, subject to certain pest risk mitigation measures. The environmental assessment documents our review and analysis of environmental impacts associated with, and alternatives to, the proposed action.

The pest risk assessment, titled “The Risk of Introduction of Pests to Washington State via Plastic-Baled Municipal Solid Waste from Hawaii” (September 2006), evaluates the plant pest risks associated with the interstate movement of garbage from Hawaii to the Roosevelt Regional Landfill.

We solicited comments on the site-specific environmental assessment and the pest risk assessment for 30 days ending on December 8, 2006. We received five comments by that date, from three private citizens and two representatives of local municipalities. Of the comments, only one specifically addressed the substance of either assessment. That commenter noted that the environmental assessment incorrectly stated the capacity of the Roosevelt Regional Landfill. We have updated our environmental assessment to reflect the capacity reported by the commenter.

One commenter questioned if a copy of the pest risk assessment had been made available for the public to view. The pest risk assessment was made available to the public in several ways. Our November 2006 notice of availability contained specific instructions for obtaining both electronic and paper copies of the pest risk assessment.

One commenter disagreed with the idea of moving garbage from Hawaii to the mainland, asking how we can be sure the garbage does not harbor deadly diseases or tiny animals. We believe that the pest risk assessment provides a thorough analysis of risks presented, and that those risks are fully addressed by the baling technology and other safeguards that will be required.

One commenter requested information on the companies that have expressed interest in sending municipal solid waste (MSW) from Hawaii to Roosevelt Regional Landfill. As noted on page 2 of the pest risk assessment, Pacific Rim Environmental Resources and Hawaii Waste Systems have proposed moving baled MSW from Hawaii to a landfill in Washington State. Another commenter asked who initiated the request for an environmental assessment and if these assessments are done routinely by APHIS. For this particular action, APHIS does routinely prepare environmental assessments. As explained in the “Purpose and Need” section of the environmental assessment, APHIS is reviewing two requests to move MSW from Honolulu, HI, to the State of Washington under compliance agreements. APHIS must complete an environmental assessment to evaluate the potential impact on the human environment prior to the issuance of these compliance agreements. The purpose of this review is to determine whether the transport of Hawaiian MSW under compliance agreements would result in a significant impact on the human environment.

One commenter asked what measures would be taken to ensure that unacceptable waste would be segregated from baled waste. APHIS recommends a series of mitigations in the pest risk assessment that would ensure that MSW is separated from prohibited materials and processed and shipped in a way that would prevent the introduction and dissemination of plant pests. Any companies interested in processing and shipping MSW from Hawaii to the mainland would have to enter into a compliance agreement with APHIS and the compliance agreement would spell out all required safeguards. If any company failed to observe the conditions of the compliance agreement, that company would no longer be permitted to process and ship MSW.

Finally, one commenter stated that APHIS should not approve the proposals to ship plastic-baled MSW from Hawaii to the State of Washington. The commenter stated that any decisions regarding the disposition of a community's MSW should be left to the local government. To clarify, the pest risk assessment and the environmental assessment were conducted in order to determine if the movement of MSW from Hawaii to the mainland of the United States would present any risk of introduction and dissemination of plant pests or animal diseases or if that action would have any negative impacts on the environments. APHIS is satisfied with the conclusions of those assessments. Additionally, APHIS will enter into compliance agreements with companies that wish to move MSW from Hawaii to the mainland United States to ensure that the mitigations and protocols described in our assessments are being followed. It is entirely up to the local jurisdiction as to whether or not the community will avail itself of this potential disposal option for its MSW.

The site-specific pest risk assessment and environmental assessment and finding of no significant impact may be viewed on the Regulations.gov Web site.¹ Copies of the pest risk assessment and environmental assessment and finding of no significant impact are also available for public inspection at USDA, room 1141, South Building, 14th Street and Independence Avenue SW., Washington, DC, between 8 a.m. and 4:30 p.m., Monday through Friday, except holidays. Persons wishing to inspect copies are requested to call ahead on (202) 690-2817 to facilitate entry into the reading room. In addition, copies may be obtained by writing to the individual listed under FOR FURTHER INFORMATION CONTACT.

¹ Go to http://www.regulations.gov, click on the “Advanced Search” tab and select “Docket Search.” In the Docket ID field, enter APHIS-2006-0172, click “Submit,” then click on the Docket ID link in the search results page. The pest risk assessment and the environmental assessment and finding of no significant impact will appear in the resulting list of documents.

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 21st day of December 2006.
Kevin Shea,
Acting Administrator, Animal and Plant Health Inspection Service.

[FR Doc. E6-22267 Filed 12-27-06; 8:45 am]

BILLING CODE 3410-34-P